DEPARTMENT OF LABOR

Employment and Training Administration

[TA-W-63,317]

Union Carbide Corporation a Subsidiary of the Dow Chemical Company, West Virginia Operations, South Charleston Technology Park, South Charleston, WV; Notice of Affirmative Determination Regarding Application for Reconsideration

On August 21, 2008, the Department of Labor (Department) received a request for administrative reconsideration of the Department's negative determination regarding eligibility to apply for Alternative Trade Adjustment Assistance (ATAA) applicable to workers and former workers of the subject firm.

The negative ATAA determination was issued on July 18, 2008, and the Department's Notice of determination was published in the Federal Register on July 30, 2008 (73 FR 44283). The subject workers are engaged in activities (research and development) related to the production of various chemicals.

The negative ATAA determination was based on the Department's findings during the initial investigation that conditions within the workers' industry are not adverse.

In the request for reconsideration, workers alleged that “employment in the chemical industry for the state of West Virginia and our workers' region (Kanawha County) is adverse.” The request included employment statistics for the chemical industry in Kanawha County (West Virginia) and for West Virginia.

The Department has carefully reviewed the request for reconsideration and has determined that the Department will conduct further investigation.

Conclusion

After careful review of the application, I conclude that the claim is of sufficient weight to justify reconsideration of the U.S. Department of Labor's prior decision. The application is, therefore, granted.

Signed at Washington, DC, this 26th day of August 2008.
Elliott S. Kushner,
Certifying Officer, Division of Trade Adjustment Assistance.

[FR Doc. E8-20348 Filed 9-2-08; 8:45 am]

BILLING CODE 4510-FN-P